DEPARTMENT OF STATE

[Public Notice 3887]

United States International Telecommunication Advisory Committee, Telecommunication Standardization (ITU and CITEL) Agendas; Notice of Meetings

The Department of State announces meetings of the U.S. International Telecommunication Advisory Committee. The purpose of the Committee is to advise the Department on policy and technical issues with respect to the International Telecommunication Union (ITU). These meetings will address preparations for ITU-T Study Group Meetings.

• The ITAC will meet to prepare for the June 2002 meeting of the Telecommunication Sector Advisory Group (TSAG) from 9:30 to noon on April 17, May 15, and May 29. The April 17 meeting will be held at the Alliance for Telecommunications Industry Solutions (ATIS), 1200 G Street NW., Suite 350, Washington, DC, and the May 15 meeting will be held at TIA, 1300 Pennsylvania Avenue NW., Suite 350, Washington, DC. The May 29 meeting will be in Washington, DC in a location to be announced.

• The ITAC will meet to prepare for the next meeting of ITU-T Study Group 2 on March 12, 2002 from 9:30 to noon at the Federal Communications Commission, 445 12th Street, Washington, DC (room 5-B516), on April 3 at a location and time to be announced, and April 17 at ATIS, 1200 G Street NW., Suite 350, Washington, DC from 1:30 to 3:30.

• The ITAC will meet to prepare for the next meeting of ITU-T Study Group 3 on April 4 from 9:30 to noon at Compass Rose International, 888 17th Street NW., Suite 900, Washington, DC, and May 22 from 9:30 to noon in Washington, DC at a location to be announced.

• The ITAC will meet to prepare for the next meeting of ITU-T Study Group 4 on March 21 at Communications Technologies Inc. (COMTek), 14151 Newbrook Drive, Suite 400, Chantilly, VA 20151 beginning at 9:30.

• The ITAC will meet to prepare for the next meeting of ITU-T Study Group 9 for normal contributions by email on the SGD reflector between March 17 and March 28 and for delayed contributions on May 16 from 9:30 to noon in Washington, DC at a location to be announced.

• The ITAC will meet by email on the SGA reflector between May 2 and May 10 to prepare for ITU-T Study Group 12.

• The ITAC will meet to prepare for the next meeting of ITU-T Study Group 15 on April 12 from about noon to 4:00. This meeting will take place at the Westin Peachtree Plaza, 210 Peachtree Street, Atlanta, GA.

• The ITAC will meet by email on the SGB reflector between May 6 and May 10 to prepare for the next Special Study Group on IMT-2000 and beyond.

• The ITAC will meet on March 13, 2002 at TIA, 1300 Pennsylvania Avenue, Suite 350, Washington, DC to prepare for the next CITEL PCC.I meeting.

• Members of the general public may attend these meetings. Directions to meeting location and actual room assignments may be determined by calling the ITAC Secretariat at 202 647-0965 or e-mail to minardje@state.gov. Directions for joining e-mail meetings may be obtained by calling the Secretariat at 202 647-0965.

Attendees may join in the discussions, subject to the instructions of the Chair. Admission of participants will be limited to seating available.

Dated: March 2, 2002.
Doreen McGirr,
Director, ITU-D Affairs, Department of State.

[FR Doc. 02-5647 Filed 3-7-02; 8:45 am]

BILLING CODE 4710-45-P